DEPARTMENT OF COMMERCE

International Trade Administration

[A-570-856]

Synthetic Indigo From the People's Republic of China: Final Results of Antidumping Duty Administrative Review

AGENCY: Import Administration, International Trade Administration, Department of Commerce.

ACTION: Notice of final results of antidumping duty administrative review.

SUMMARY: On March 10, 2003, the Department of Commerce (the Department) published the preliminary results of the administrative review of the antidumping duty order on synthetic indigo from the People's Republic of China with respect to Liyang Skyblue Chemical Co., Ltd. Based on our analysis of the comments received since the preliminary results, we have made changes in the margin calculation. Therefore, the final results differ from the preliminary results. The final margin is listed below in the “Final Results of Review” section of this notice.

EFFECTIVE DATE: September 12, 2003.

FOR FURTHER INFORMATION CONTACT: David J. Goldberger or Margarita Panayi, Office 2, AD/CVD Enforcement Group I, Import Administration, International Trade Administration, U.S. Department of Commerce, 14th Street and Constitution Avenue, NW., Washington, DC 20230; telephone: (202) 482-4136 or (202) 482-0049, respectively.

SUPPLEMENTARY INFORMATION:

Background

This review covers the exporter Liyang Skyblue Chemical Co., Ltd. (Liyang).

On March 10, 2003, the Department published in the Federal Register the preliminary results of administrative review of the antidumping duty order on synthetic indigo from the People's Republic of China (PRC) (68 FR 11371) (Preliminary Results). On April 9, 2003, Liyang requested a public hearing, but withdrew that request on May 7, 2003. Liyang submitted additional surrogate value data on April 14, 2003. We received case briefs from the petitioner, Buffalo Color Corporation, and Liyang on April 25, 2003. We received rebuttal briefs from these parties on April 30, 2003. The Department placed additional information on the record on May 19, 2003, and both the petitioner and Liyang submitted comments on this information on May 29, 2003. On July 7, 2003, the Department placed on the record import statistics from various countries relevant to certain surrogate values. On July 10, 2003, the Department published in the Federal Register the postponement of the final results of the administrative review of the antidumping duty order on synthetic indigo from the PRC (68 FR 41113). Liyang submitted comments on the Department's July 7, 2003, import statistic data. Liyang submitted additional comments in an August 14, 2003, letter. The Department has conducted this administrative review in accordance with section 751 of the Act.

Scope of Order

The products subject to this order are the deep blue synthetic vat dye known as synthetic indigo and those of its derivatives designated commercially as “Vat Blue 1.” Included are Vat Blue 1 (synthetic indigo), Color Index No. 73000, and its derivatives, pre-reduced indigo or indigo white ( Color Index No. 73001) and solubilized indigo (Color Index No. 73002). The subject merchandise may be sold in any form (e.g., powder, granular, paste, liquid, or solution) and in any strength. Synthetic indigo and its derivatives subject to this order are currently classifiable under subheadings 3204.15.10.00, 3204.15.40.00 or 3204.15.80.00 of the Harmonized Tariff Schedule of the United States (HTSUS). Although the HTSUS subheadings are provided for convenience and customs purposes, the written description of the merchandise under the order is dispositive.

Period of Review

The period of review (POR) covers the period June 1, 2001, through May 31, 2002.

Analysis of Comments Received

All issues raised in the case and rebuttal briefs by parties to this antidumping duty administrative review are addressed in the “Issues and Decision Memorandum” (Decision Memo) from Jeffrey May, Deputy Assistant Secretary for Import Administration, to James J. Jochum, Assistant Secretary for Import Administration, dated September 5, 2003, which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Web at http://ia.ita.doc.gov/. The paper copy and electronic version of the Decision Memo are identical in content.

Changes From the Preliminary Results

Based on our analysis of comments received and a review of the available information on the record, we have made certain changes to the margin calculations, including:

• We corrected the valuation of the “auxiliary agent” and the “wetting agent,” which Liyang obtained from market economy sources and paid for in market economy currencies, by converting the per-kilogram prices for these inputs to per-metric ton prices for purposes of calculating Liyang's normal value.

• We revised the valuation of solid potassium hydroxide to rely on the average of the Chemical Weekly POR average price and the Indian import weighted-average value during the POR for this chemical.

• We corrected the valuation of liquid potassium hydroxide by adjusting the surrogate value for solid potassium hydroxide to reflect the concentration of the liquid input consumed by Liyang.

• We revised the valuation of liquid sodium hydroxide, also known as lye, to rely on the average of the Chemical Weekly POR average price and Indian import POR average value for this chemical, adjusted for the concentration consumed by Liyang. To calculate the Indian import portion of the value, we excluded imports from countries on which India has issued an antidumping duty order.

• We revised the valuation of solid sodium hydroxide, which was based on the average of the Chemical Weekly POR average price and the Indian import POR average value, to exclude imports of liquid sodium hydroxide and imports from countries on which India has issued an antidumping duty order from the import value portion of the calculation

• We revised the surrogate value for inland freight to apply the average of the Indian freight rate information derived from the February through May 2002 editions of Chemical Weekly.

• We revised the valuation of international freight to rely on the arrival notices submitted by Liyang.

• We revised the valuation of the foreign brokerage and handling expense to include an amount for terminal handling charges, which were considered part of the surrogate ocean freight value applied in the preliminary results.

• We revised the valuation of marine insurance to apply the surrogate value rate on a percentage basis, rather than a per-unit basis.

For a discussion of these changes, see the “Margin Calculations” section of the Decision Memo, the Decision Memo comments, and the September 5, 2003, Final Results Valuation Memorandum.

Final Results of the Review

We determine that the following margin percentage exists:

Manufacturer/producer/exporter | Margin percent
Liyang Skyblue Chemical Co., Ltd. | 4.60

Assessment Rates

The Department shall determine, and the U.S. Bureau of Customs and Border Protection (BCBP) shall assess, antidumping duties on all appropriate entries. Pursuant to 19 CFR 351.212(b)(1), we calculated importer-specific ad valorem duty assessment rates based on the ratio of the total amount of the dumping margins calculated for the examined sales to the total entered value of those same sales. The Department will issue appropriate assessment instructions directly to BCBP within 15 days of publication of these final results of review. For entries of the subject merchandise during the POR from companies not subject to this review, we will instruct the BCBP to liquidate them at the cash deposit rate in effect at the time of entry.

Cash Deposit Requirements

The cash deposit rate for all shipments by Liyang of the subject merchandise entered, or withdrawn from warehouse, for consumption on or after the publication date, will be the rate of 4.60 percent, as provided for by section 751(a)(1) of the Act. The cash deposit rate for PRC exporters who received a separate rate in a prior segment of the proceeding for which there was no request for administrative review will continue to be the rate assigned in that segment of the proceeding. The cash deposit rate for the PRC NME entity will continue to be 129.60 percent, and the cash deposit rate for non-PRC exporters of subject merchandise from the PRC will continue to be the rate applicable to the PRC exporter that supplied that exporter. These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective order (APO) of their responsibility concerning the disposition of proprietary information disclosed under APO in accordance with 19 CFR 351.305(a)(3). Timely written notification of return/destruction of APO materials or conversion to judicial protective order is hereby requested. Failure to comply with the regulation and the terms of an APO is a sanctionable violation.

This administrative review and notice are in accordance with sections 751(a)(1) and 777(i)(1) of the Act, and 19 CFR 351.213.

Dated: September 5, 2003.
James J. Jochum,
Assistant Secretary for Import Administration.

Appendix—List of Issues

Comment 1: Valuation of Phenylglycinonitrile

Comment 2: Normal Value Based on Different Production Processes

Comment 3: Surrogate Value for Castor Oil

Comment 4: Valuation of Solid Potassium Hydroxide

Comment 5: Adjustment for Concentration Levels of Liquid Sodium Hydroxide and Liquid Potassium Hydroxide

Comment 6: Adjustment for Concentration Levels of Other Chemicals

Comment 7: Valuation of Liquid Ammonia

Comment 8: Valuation of Aniline

Comment 9: Valuation of Ocean Freight

Comment 10: Valuation of Auxiliary and Wetting Agents

Comment 11: Valuation of Plastic Bags

[FR Doc. 03-23317 Filed 9-11-03; 8:45 am]

BILLING CODE 3510-DS-P